DEPARTMENT OF THE INTERIOR

Fish and Wildlife Service

Record of Decision for the Final Comprehensive Conservation Plan and Environmental Impact Statement for Driftless Area National Wildlife Refuge in Illinois, Iowa, and Wisconsin

AGENCY: Fish and Wildlife Service, Interior.

ACTION: Notice of availability of record of decision.

SUMMARY: The U.S. Fish and Wildlife Service announces the decision and availability of the Record of Decision (ROD) for the Final Comprehensive Conservation Plan (CCP) and Environmental Impact Statement (EIS) for Driftless Area National Wildlife Refuge (NWR) in accordance with 40 CFR 1506.6(b). A thorough analysis of the environmental, social, and economic considerations was completed and included in the Final CCP/EIS. The Final CCP/EIS was released to the public and a Notice of Availability was published in the Federal Register, 71 FR 5874, February 3, 2006. The ROD documents the selection of Alternative C, the Preferred Alternative in the Final CCP/EIS. The ROD was signed by the Regional Director, U.S. Fish and Wildlife Service, Midwest Region, on April 18, 2006.

ADDRESSES: The ROD and Final CCP/EIS may be viewed at Driftless Area National Wildlife Refuge Headquarters. You may obtain a copy of the ROD at the planning Web site at http://www.fws.gov/midwest/planning/DriftlessArea or by writing to the following address: U.S. Fish and Wildlife Service, Division of Conservation Planning, Bishop Henry Whipple Federal Building, 1 Federal Drive, Fort Snelling, Minnesota 55111.

FOR FURTHER INFORMATION CONTACT: Cathy Henry at (563) 873-3423.

SUPPLEMENTARY INFORMATION: The CCP/EIS for the Driftless Area National Wildlife Refuge will provide management guidance for conservation of Refuge resources and public use activities during the next 15 years. Three alternatives and their consequences were described in detail in the Draft and Final Environmental Impact Statement. Under all alternatives recovery plans for the Iowa Pleistocene snail and the Northern monkshood would be updated, cultural resources would be protected, and the Refuge's Fire Management Plan would guide prescribed fire and wildfire suppression.

Alternative A—No Action. Present management practices would continue under this Alternative. The No Action alternative is a status quo alternative where current conditions and trends continue. The alternative served as the baseline to compare and contrast with the other alternatives.

Acquisition efforts would not occur under this alternative because there would be no approved expanded acquisition boundary.

Alternative B—Habitat Protection Emphasis. Under this alternative the primary focus of Refuge activities would be on the permanent protection of endangered species habitat through land acquisition and minimal physical disturbance of endangered species habitat. The expanded acquisition area for the Refuge would include a total of 6,000 acres in 22 counties in four states as described in a Land Protection Plan (Appendix J of the Final EIS). The 3,400 acres specified in this alternative is the estimated acreage that would be protected within the 15-year life of the CCP given anticipated levels of willing sellers, funding, and Refuge personnel.

Alternative C—Habitat Protection, Increased Management, and Integrated Wildlife-dependent Recreation (Preferred Alternative). Under this alternative the focus would be on the permanent protection of endangered species habitat and additional algific slopes through land acquisition and active management of endangered species habitat. New information and threats increase the need for active management. Fewer acres acquired in this alternative would allow limited Refuge resources to address all impacts to the habitat. The total expanded acquisition area for the Refuge would include 6,000 acres in 22 counties in four states as described in a Land Protection Plan (Appendix J of the Final EIS). The 2,275 acres specified in this alternative is a realistic estimate of the acreage that would be protected within the 15-year life of the CCP given anticipated levels of willing sellers, funding, and the need to accomplish other Refuge objectives in this alternative. The Service has selected Alternative C, the Preferred Alternative, for the Refuge. Alternative C addresses the key issues identified during the planning process and will best achieve the purposes and goals of the Refuge as well as the mission of the National Wildlife Refuge System. This decision includes adoption of Comprehensive Conservation Plan Chapters (Appendix A), and the Land Protection Plan (Appendix J of the Final CCP/EIS). Implementation of the CCP will occur over the next 15 years and will depend on future staffing levels, funding, and willing sellers.

The Service's Basis for the Decision: Alternative C is the most environmentally preferable alternative. Alternative C is likely to lead to the delisting of the Iowa Pleistocene snail and significant progress in the recovery of Northern monkshood and Leedy's roseroot, as well as beneficial effects for other trust species. Algific talus slopes are more likely to benefit under the management proposed in Alternative C than the other alternatives. Alternative C is also expected to lead to more public support and more public opportunities than the other alternatives. Alternative A was not selected because it would not lead to reaching recovery goals or delisting of species. Alternative B was not selected because minimal management would likely lead to negative effects on algific talus slopes and delisting of species might not occur. The rationale for choosing the selected alternative as the best alternative for the CCP/EIS is based on the impact of this alternative on the issues and concerns that surfaced during the planning process. The environmental impacts of the three alternatives were analyzed as to how they would impact: (1) Habitat management; (2) visitor services; (3) refuge expansion; and (4) species assessments. Because all practicable means to avoid or minimize environmental harm have been incorporated into the preferred alternative, no mitigation measures have been identified.

Dated: May 1, 2006.
Charles M. Wooley,
Acting Regional Director, U.S. Fish and Wildlife Service, Fort Snelling, Minnesota.

[FR Doc. E6-8124 Filed 5-25-06; 8:45 am]

BILLING CODE 4310-55-P